COMMITTEE FOR PURCHASE FROM PEOPLE WHO ARE BLIND OR SEVERELY DISABLED

Procurement List; Proposed Additions and Deletions

AGENCY: Committee for Purchase from People Who are Blind or Severely Disabled.

ACTION: Proposed Additions to and Deletions from the Procurement List.

SUMMARY: The Committee is proposing to add products and a service to the Procurement List that will be furnished by nonprofit agencies employing persons who are blind or have other severe disabilities and delete services previously furnished by such agencies.

DATES: Comments Must be Received on or before: 6/1/2015.

ADDRESSES: Committee for Purchase from People Who are Blind or Severely Disabled, 1401 S. Clark Street, Suite 715, Arlington, Virginia 22202-4149.

FOR FURTHER INFORMATION CONTACT: For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Product Name/NSN: File Folder, Single Tab, ⅓ Cut.

7530-00-NIB-1104—Letter, Position 1

Distribution: A-List

Mandatory Purchase for: Total Government Requirement

Mandatory Source of Supply: Association for Vision Rehabilitation and Employment, Inc., Binghamton, NY

Contracting Activity: General Services Administration, New York, NY

Product Name/NSN(s): Pen, Retractable Gel

7520-00-NIB-2235—Black Ink, Fine Point

7520-00-NIB-2236—Blue Ink, Fine Point

7520-00-NIB-2135—Black Ink, Medium Point

7520-00-NIB-2136—Blue Ink, Medium Point

Distribution: A-List

7520-00-NIB-2237—Black Ink, Bold Point

7520-00-NIB-2238—Blue Ink, Bold Point

Distribution: B-List

Mandatory Purchase for: Total and Broad Government Requirements

Mandatory Source of Supply: Industries of the Blind, Inc., Greensboro, NC

Contracting Activity: General Services Administration, New York, NY

Product Name/NSN(s): Bag, Shopping Tote, Laminated

MR 400—Small, “Live Spicy”

MR 401—Small, “Live Fresh”

MR 402—Small, “Live Sweet”

MR 403—Small, “Live Well”

MR 404—Large, “Live Spicy”

MR 405—Fresh, “Live Fresh”

MR 406—Large, “Live Sweet”

MR 407—Large, “Live Well”

Distribution: C-List

Mandatory Purchase for: Requirements of military commissaries and exchanges as aggregated by the Defense Commissary Agency

Mandatory Source of Supply: Industries for the Blind, Inc., West Allis, WI

Contracting Activity: Defense Commissary Agency, Fort Lee, VA

Service

Service Type: Contract Management Support Service

Mandatory Purchase for: National Institutes of Health (NIH), Rockville, MD

Mandatory Source of Supply: Columbia Lighthouse for the Blind, Washington, DC

Contracting Activity: Department of Health and Human Services, Office of Logistics and Acquisition Operations, Rockville, MD

Deletions

The following services are proposed for deletion from the Procurement List:

Services

Service Type: Grounds Maintenance Service

Mandatory Purchase for: Ballsfield, Fort Ord, CA

Mandatory Source of Supply: Unknown

Contracting Activity: Dept of the Army, W40M Northern Region Contract Office, Fort Belvoir, VA

Service Type: Shelf Stocking & Custodial Service

Mandatory Purchase for: Barbers Point Naval Air Station, Barbers Point, HI

Mandatory Source of Supply: Trace, Inc., Boise, ID

Contracting Activity: Defense Commissary Agency, Fort Lee, VA

Barry S. Lineback,
Director, Business Operations.

[FR Doc. 2015-10210 Filed 4-30-15; 8:45 am]

BILLING CODE 6353-01-P